INTERNATIONAL TRADE COMMISSION

[Investigation Nos. 701-TA-379 and 731-TA-788, 790-793; Second Review]

Stainless Steel Plate From Belgium, Italy, Korea, South Africa, and Taiwan

Determinations

On the basis of the record ¹ developed in the subject five-year reviews, the United States International Trade Commission (Commission) determines, pursuant to section 751(c) of the Tariff Act of 1930 (19 U.S.C. 1675(c)), that revocation of the countervailing duty order on stainless steel plate from South Africa and revocation of the antidumping duty orders on stainless steel plate from Belgium, Korea, South Africa, and Taiwan would be likely to lead to continuation or recurrence of material injury to an industry in the United States within a reasonably foreseeable time.² The Commission further determines that revocation of the antidumping duty order on stainless steel plate from Italy would not be likely to lead to continuation or recurrence of material injury to an industry in the United States within a reasonably foreseeable time.³

¹ The record is defined in sec. 207.2(f) of the Commission's Rules of Practice and Procedure (19 CFR 207.2(f)).

² Chairman Deanna Tanner Okun and Commissioner Daniel R. Pearson dissent with respect to the determinations regarding stainless steel plate from Belgium, Korea, South Africa, and Taiwan.

³ Commissioner Charlotte R. Lane dissents with respect to the determination regarding stainless steel plate from Italy.

Background

The Commission instituted these reviews on June 1, 2010 (75 FR 30434) and determined on September 7, 2010 that it would conduct full reviews (75 FR 59744, September 28, 2010). Notice of the scheduling of the Commission's reviews and of a public hearing to be held in connection therewith was given by posting copies of the notice in the Office of the Secretary, U.S. International Trade Commission, Washington, DC, and by publishing the notice in the Federal Register on December 27, 2010 (75 FR 81309). The hearing was held in Washington, DC, on May 26, 2011, and all persons who requested the opportunity were permitted to appear in person or by counsel.

The Commission transmitted its determinations in these reviews to the Secretary of Commerce on August 9, 2011. The views of the Commission are contained in USITC Publication 4248 (August 2011) entitled Stainless Steel Plate from Belgium, Italy, Korea, South Africa, and Taiwan: Investigation Nos. 701-TA-379 and 731-TA-788, 790-793 (Second Review).

By order of the Commission.
Issued: August 9, 2011.
William R. Bishop,
Acting Secretary to the Commission.

[FR Doc. 2011-20630 Filed 8-12-11; 8:45 am]

BILLING CODE P